GENERAL SERVICES ADMINISTRATION

Office of Communications; Cancellation of an Optional Form by the Office of Personnel Management (OPM)

AGENCY: Office of Communications, GSA.

ACTION: Notice.

SUMMARY: The Office of Personnel Management (OPM) cancelled OF 630A, Request to Donate Annual Leave to Leave Recipient Under the Voluntary Leave Transfer Program. The form was only available with FPM Letter 630-33 which no longer exists. OPM developed their own form (OPM 630A) which they are happy to share with you. To obtain a copy of this form, go to the following internet site: http://www.opm.gov/forms.

FOR FURTHER INFORMATION CONTACT: Ms. Barbara Williams, General Services Administration, (202) 501-0581

DATES: Effective October 1, 2001.

Dated: September 24, 2001.
Barbara M. Williams,
Deputy Standard and Optional Forms Management Officer, General Services Administration.

[FR Doc. 01-24495 Filed 9-28-01; 8:45 am]

BILLING CODE 6820-34-M